DEPARTMENT OF HEALTH AND HUMAN SERVICES

Centers for Disease Control and Prevention

National Center for Environmental Health/Agency for Toxic Substances and Disease Registry

The Community and Tribal Subcommittee of the Board of Scientific Counselors (BSC), Centers for Disease Control and Prevention (CDC), National Center for Environmental Health/Agency for Toxic Substances and Disease Registry (NCEH/ATSDR).

In accordance with section 10(a)(2) of the Federal Advisory Committee Act (Pub. L. 92-463), the Centers for Disease Control and Prevention, NCEH/ATSDR announces the following subcommittee meeting: Teleconference.

Name: Community and Tribal Subcommittee (CTS).

Time and Date: 8 a.m.-1:30 p.m., November 16, 2005.

Place: Century Center, 1825 Century Boulevard, Atlanta, Georgia 30345. See Supplementary Information.

Status: Open to the public, limited by the available space. The meeting room accommodates approximately 40 people.

Purpose: Under the charge of the Board of Scientific Counselors, NCEH/ATSDR, the Community and Tribal Subcommittee will provide the BSC, NCEH/ATSDR with a forum for community and tribal first-hand perspectives on the interactions and impacts of NCEH/ATSDR's national and regional policies, practices and programs.

Matters to Be Discussed: The meeting agenda will include discussions on NCEH/ATSDR health disparities and environmental justice programs; the development of an agency environmental justice strategy; a review of new NCEH and ATSDR Web sites; discussion of new members to the subcommittee.

Agenda items are subject to change as priorities dictate.

Supplementary Information: This meeting is scheduled to begin at 8 a.m. Eastern Standard Time. To participate please dial 1-877-315-6535 and enter conference code 383520. Public Comment period is between 11 a.m.-11:15 a.m. EST.

Contact Person for More Information: Sandra Malcom, Committee Management Specialist, NCEH/ATSDR, 1600 Clifton Road, M/S E-28, Atlanta, GA 30303; telephone 404/498-0003; e-mail: smalcom@cdc.gov. The deadline for notification of attendance is November 14, 2005.

The Director, Management Analysis and Services Office, has been delegated the authority to sign Federal Register notices pertaining to announcements of meetings and other committee management activities for both CDC and NCEH/ATSDR.

Dated: October 21, 2005.
Diane Allen,
Acting Director, Management Analysis and Services Office, Centers for Disease Control and Prevention.

[FR Doc. 05-21432 Filed 10-26-05; 8:45 am]

BILLING CODE 4163-18-P